ENVIRONMENTAL PROTECTION AGENCY

40 CFR Part 300

[EPA-HQ-SFUND-2003-0009; FRL-9908-79-Region 10]

National Oil and Hazardous Substances Pollution Contingency Plan; National Priorities List: Deletion of the Harbor Oil Superfund Site

AGENCY: Environmental Protection Agency (EPA).

ACTION: Proposed rule; notice of intent.

SUMMARY: The Environmental Protection Agency (EPA) Region 10 is issuing a Notice of Intent to Delete Harbor Oil Superfund Site (Site) located in Portland, Oregon, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of Oregon, through the Department of Environmental Quality, have determined that all appropriate response actions under CERCLA have been completed. This deletion does not preclude future actions under Superfund or under state law.

DATES: Comments must be received by May 7, 2014.

ADDRESSES: Submit your comments, identified by Docket ID no. EPA-HQ-SFUND-2003-0009, by one of the following methods:

• http://www.regulations.gov. Follow on-line instructions for submitting comments.

• Email: By sending an email to EPA Project Manager Christopher Cora at cora.christopher@epa.gov.

• Fax: (206) 553-0124

• Mail: Christopher Cora, U.S. Environmental Protection Agency, 1200 Sixth Avenue, Suite 900, Seattle WA 98101-3140.

• Hand delivery: U.S. Environmental Protection Agency, 1200 Sixth Avenue, Suite 900, MS ECL-115, Seattle WA 98101-3140.

Such deliveries are accepted only during the Docket's normal hours of operation. Special arrangements should be made for deliveries of boxed information.

Instructions: Direct your comments to Docket ID no. EPA-HQ-SFUND-2003-0009. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be captured automatically and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and should be free of any defects or viruses.

Docket

All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at:

EPA Superfund Records Center, 1200 6th Ave, 7th floor, Seattle, WA 98101-3140.

Historic Kenton Firehouse, 8105 North Brandon St, Portland, OR 97217, 503-823-0215.

FOR FURTHER INFORMATION CONTACT: Christopher Cora, Remedial Project Manager, U.S. Environmental Protection Agency, Region 10, Suite 900, 1200 Sixth Avenue, Seattle, WA 98101-3140, (206) 553-1478, cora.christopher@epa.gov.

SUPPLEMENTARY INFORMATION:

Table of Contents:

I. Introduction

II. NPL Deletion Criteria

III. Deletion Procedures

IV. Basis for Intended Site Deletion

I. Introduction

EPA Region 10 announces its intent to delete the Harbor Oil Superfund Site from the National Priorities List (NPL) and requests public comment on this proposed action. The NPL constitutes Appendix B of 40 CFR part 300, which is the National Oil and Hazardous Substances Pollution Contingency Plan (NCP), which EPA promulgated pursuant to section 105 of the Comprehensive Environmental Response, Compensation, and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this site for thirty (30) days after publication of this document in the Federal Register.

Section II of this document explains the criteria for deleting sites from the NPL. Section III discusses procedures that EPA is using for this action. Section IV discusses the Harbor Oil Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

III. Deletion Procedures

The following procedures apply to deletion of the Site:

(1) EPA consulted with the State before developing this Notice of Intent to Delete.

(2) EPA has provided the state 30 working days for review of this notice prior to publication of it today.

(3) In accordance with the criteria discussed above, EPA has determined that no further response is appropriate.

(4) The State of Oregon, through the Department of Environmental Quality, has concurred with deletion of the Site from the NPL.

(5) Concurrently with the publication of this Notice of Intent to Delete in the Federal Register, a notice is being published in a major local newspaper, The Oregonian. The newspaper notice announces the 30-day public comment period concerning the Notice of Intent to Delete the site from the NPL.

(6) EPA placed copies of documents supporting the proposed deletion in the deletion docket and made these items available for public inspection and copying at the Site information repositories identified above.

If comments are received within the 30-day public comment period on this Notice of Intent to Delete, EPA will evaluate and respond appropriately to the comments before making a final decision. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Harbor Oil Superfund Site (CERCLIS ID No.: ORD071803985) is a 4.2-acre used oil reprocessing facility located at 11535 North Force Avenue in northeast Portland, Multnomah County, Oregon. American Petroleum Environmental Services is the current operator. The facility began cleaning tanker trucks and recycling oil in the 1950s to 1960s. A fire destroyed the facility in 1979, which released pollutants into the wetlands and Force Lake. The presence of pollutants released into the environment can be associated with cattle truck and tanker truck cleaning operations, road oiling for dust suppression, oil treatment and processing activities, the 1979 facility fire, pesticide usage at historical stockyards and in the city of Vanport, and storm water drainage patterns. The contaminants include petroleum products, polyaromatic hydrocarbons, volatile organic compounds (VOCs), semi-volatile organic compounds (SVOCs), metals, polychlorinated biphenyls (PCBs) and possibly other contaminants, such as solvents and/or pesticides such as dichlorodiphenyltrichloroethane (DDT) and metals at the Site. The Site was proposed to the NPL on September 5, 2002 (67 FR 56794). The Site was listed on the NPL on September 29, 2003 (68 FR 55875).

Remedial Investigation and Feasibility Study (RI/FS)

The RI included sampling soil (213 samples), groundwater (34 samples), sediments (17 samples) and surface water (3 samples) for the following chemicalgroups: Total petroleum hydrocarbons, polyaromatic hydrocarbons, volatileorganic compounds, semi-volatile organic compounds, metals, pesticides, and polychlorinated biphenyls. The RI sampling indicated site contamination was not significant. The maximum DDT concentration was 78 mg/Kg in soils and 0.210 mg/Kg in sediments. The maximum PCB concentration was 32 mg/Kg in soils and 0.131 mg/Kg in sediments. The maximum soil concentrations were all on the facility property and are covered by asphalt; therefore there is no completed exposure pathway. Petroleum contamination was ubiquitous throughout the site but did not pose unacceptable risk and was highly weathered and not mobile; for example, it was not in groundwater or surfacewater above screening levels. Petroleum screening levels are represented by the lowest available screening levels from EPA or Oregon Department of Environmental Quality. Metals, specifically chrome, copper, and zinc, exceeded ecological screening values but were limited in areal extent and posed only slightly elevated risks to terrestrial invertebrates. VOCs and SVOCs were rarely detected. Benzene (concentration of 0.140 mg/L) and trichloroethylene (concentration of 0.0061 mg/L in 2000) were detected above drinking water maximum contaminant levels once each in different groundwater wells. Based on the observation of terrestrial invertebrates (earthworms) at sampling locations with elevated metals, it was concluded the impacts were not significant, probably because the areal extent of contamination was small and the elevated Hazard Indices were due to the use of conservative reference values. The tables in the appendix reflect the findings of the baseline human health and ecological risk assessments (Tables 1 and 2). In summary, the results of the risk assessment concluded that there are no unacceptable risks posed by releases from the site. Unacceptable risks were those that result in risks exceeding EPA's target risk threshold of 1E-4 for cancer risk or an HI greater than 1 for human health. Ecological risks were determined to be acceptable, having no impacts on the ecological community of the Site. There are no endangered species present at the Site. A FS was not prepared because the risks were acceptable.

Selected Remedy

A No Action remedy was selected for the site because the Human Health Baseline Risk Assessment and the Baseline Ecological Risk Assessment showed that releases from the Site posed risks within EPA's acceptable risk range. No response actions were necessary to mitigate releases from the Site.

Cleanup Goals

Since there was no unacceptable risk and a response action was not necessary, cleanup objectives were not established.

Operation and Maintenance—if Applicable

Because no response actions were taken, there are no operation or maintenance obligations at the Site.

Five-Year Review—if Applicable

Five Year Reviews are not applicable because no response actions were taken.

Community Involvement

A Technical Assistance Grant was provided to the Harbor Oil Community Action Group (HOGAG). Meetings of the HOCAG took place on a monthly basis during the RI and were reduced when site activities slowed down. Approximately 10 citizens made up the HOCAG, but they distributed information throughout the North Portland neighborhood where the site is located. EPA provided a 30-day public review and comment period on the proposed No Action remedy on November 14, 2012. EPA held a public meeting on December 6, 2012 to present the proposed remedy of No Action and receive public comments. EPA responded to all comments in the responsiveness summary for the Record of Decision, with no change to the proposed remedy.

Determination That the Site Meets the Criteria for Deletion in the NCP

The remedial investigation has shown that the releases pose no significant threat to public health or the environment and therefore no further Superfund response is needed to protect human health or the environment at the Site.

The NCP (40 CFR 300.425(e)) states that a site may be deleted from the NPL when no further response action is appropriate. EPA, in consultation with the State of Oregon, has determined that all response actions required by CERCLA have been implemented, and no further CERCLA response action by EPA or the responsible parties is appropriate.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p.351; E.O. 12580, 52 FR 2923, 3 CFR, 1987 Comp., p.193.

Dated: March 10, 2014.
Dennis J. McLerran,
Regional Administrator.

[FR Doc. 2014-06815 Filed 4-4-14; 8:45 am]

BILLING CODE 6560-50-P